DEPARTMENT OF THE INTERIOR

National Park Service

[NPS-WASO-NAGPRA-NPS0027724; PPWOCRADN0-PCU00RP14.R50000]

Notice of Intent To Repatriate Cultural Items: U.S. Department of the Interior, Bureau of Indian Affairs, Washington, DC, and Arizona State Museum, University of Arizona, Tucson, AZ

AGENCY: National Park Service, Interior.

ACTION: Notice.

SUMMARY: The U.S. Department of the Interior, Bureau of Indian Affairs (BIA) and the Arizona State Museum, University of Arizona (ASM) in consultation with the appropriate Indian tribes or Native Hawaiian organizations, have determined that the cultural items listed in this notice meet the definition of unassociated funerary objects. Lineal descendants or representatives of any Indian Tribe or Native Hawaiian organization not identified in this notice that wish to claim these cultural items should submit a written request to the Bureau of Indian Affairs. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the Bureau of Indian Affairs at the address in this notice by June 6, 2019.

ADDRESSES: Anna Pardo, NAGPRA Coordinator, Bureau of Indian Affairs, 12220 Sunrise Valley Drive, Room 6084, Reston, VA 20191, telephone (703) 390-6343, email Anna.Pardo@bia.gov.

SUPPLEMENTARY INFORMATION: Notice is here given in accordance with the Native American Graves Protection and Repatriation Act (NAGPRA), 25 U.S.C. 3005, of the intent to repatriate cultural items under the control of the U.S. Department of the Interior, Bureau of Indian Affairs, Washington, DC, and in the physical custody of the Arizona State Museum, University of Arizona, Tucson, AZ, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

Between 1931 and 1944, 133 cultural items were removed from AZ V:4:1(ASM), also known as Kinishba Pueblo, in Gila County, AZ. Legally authorized excavations were conducted by Byron Cummings between 1931 and 1939, under the auspices of ASM and the Department of Anthropology, University of Arizona. Cummings retired in 1937; however, he continued excavating and rebuilding rooms at Kinishba until 1944. After 1937, financial support for the project was provided by the Hohokam Museum Association, BIA, and Depression-era Emergency Conservation Work (EWC). Cummings acquired permits for the excavations from 1931 to 1939, but no records of permits exist for excavations after this date range. The items listed below were found with human remains, but the human remains are not present in ASM collections.

Archeological collections from this site were accessioned by ASM in a number of different phases, having been brought to ASM at the end of each field season (1931 to 1939). On February 23, 2003, additional archeological materials from this site were found in ASM collections, and were assigned accession numbers. On February 5, 1969, a collection of archeological materials from AZ V:4:1(ASM) that had been housed at the Kinishba Museum and the Southwest Archaeological Center in Globe, AZ, was transferred to ASM and assigned an accession number. The 133 unassociated funerary objects are one antler artifact, three bone awls, four bone hairpins, one bone needle, 39 ceramic bowls, 15 ceramic jars, one ceramic miniature vessel, one ceramic pitcher, 35 ceramic sherds, three ceramic vessels, one chipped stone flake, one chipped stone knife, two lots of pigment, five fragments of plant fiber matting, two quartz crystals, one shell and stone necklace, one lot of shell beads, four shell necklaces, one stone necklace, one stone artifact, three lots of stone beads, three stone concretions, one stone disk, one stone pipe, one stone projectile point, and two turquoise pendants.

AZ V:4:1(ASM) is a large, plaza-oriented pueblo containing more than 600 rooms arranged in eight masonry room groups (Groups I-VIII) on both sides of a drainage that bisects the site. The complex is set in a valley that is part of the White River drainage. Groups I and II are the largest rooms blocks, each consisting of rectangular arrangements of approximately 200 ground-story rooms with associated plazas. The plaza in Group I consisted of two sections, with a rectangular masonry kiva in the north section, and a bench along the walls of the southern section. The excavations revealed that Group I was a multiple story pueblo. The other room groups had multiple stories as well. Groups III-VIII are made up of approximately six to sixteen rooms each. The main excavations occurred in Group I, the other room groups are less fully researched. Human remains were uncovered both inside and outside of the excavated roomblocks. The pueblo was occupied between around A.D. 1225 and 1450, based on evidence from tree ring dates, architectural forms, building technology, and ceramic styles. These characteristics, the mortuary patterns, and other items of material culture recovered at this site are consistent with the archeologically described Upland Mogollon or prehistoric Western Pueblo tradition.

A detailed discussion of the basis for cultural affiliation of archeological sites in the region where the above site is located may be found in “Cultural Affiliation Assessment of White Mountain Apache Tribal Lands (Fort Apache Indian Reservation),” by John R. Welch and T.J. Ferguson (2005). To summarize, archeologists have used the terms Upland Mogollon or prehistoric Western Pueblo to define the archeological complex represented by the Kinishba Pueblo. Material culture characteristics of these traditions include a temporal progression from earlier pit houses to later masonry pueblos, villages organized in room blocks of contiguous dwellings and associated with plazas, rectangular kivas, polished and paint-decorated ceramics, unpainted corrugated ceramics, inhumation burials, cradleboard cranial deformation, grooved stone axes, and bone artifacts. The combination of the material culture attributes and a subsistence pattern of hunting and gathering augmented by maize agriculture helps to identify an earlier group. Archeologists have also remarked that there are strong similarities between this earlier group and present-day tribes included in the Western Pueblo ethnographic group, especially the Hopi Tribe of Arizona and the Zuni Tribe of the Zuni Reservation, New Mexico. The similarities in ceramic traditions, burial practices, architectural forms, and settlement patterns have led archeologists to believe that the prehistoric inhabitants of the Mogollon Rim region migrated north and west to the Hopi mesas, and north and east to the Zuni River Valley. Certain objects found in Upland Mogollon archeological sites strongly resemble ritual paraphernalia used by the Hopi and Zuni in continuing religious practices. Some petroglyphs on the Fort Apache Reservation have also persuaded archeologists of continuities between the earlier identified group and current-day Western Pueblo people. Biological information from AZ P:14:1(ASM), a site located close to AZ V:4:1(ASM), supports the view that the prehistoric occupants of the Upland Mogollon region had migrated from various locations to the north and west of the region.

Hopi and Zuni oral traditions parallel the archeological evidence for migration. Migration figures prominently in Hopi oral tradition, which refers to the ancient sites, pottery, stone tools, petroglyphs, and other artifacts left behind by the ancestors as “Hopi Footprints.” This migration history is complex and detailed, and includes traditions relating specific clans to the Mogollon region. Hopi cultural advisors have also identified medicinal and culinary plants at archeological sites in the region. Their knowledge about these plants was passed down to them from the ancestors who inhabited these ancient sites. Migration is also an important attribute of Zuni oral tradition, and includes accounts of Zuni ancestors passing through the Upland Mogollon region. The ancient villages mark the routes of these migrations. Zuni cultural advisors remark that the ancient sites were not abandoned. People returned to these places from time to time, either to reoccupy them or for religious pilgrimages—a practice that has continued to the present day. Archeologists have found ceramic evidence at shrines in the Upland Mogollon region that confirms these reports. Zuni cultural advisors have names for plants endemic to the Mogollon region that do not grow on the Zuni Reservation. They also have knowledge about traditional medicinal and ceremonial uses for these resources, which has been passed down to them from their ancestors. Furthermore, Hopi and Zuni cultural advisors have recognized that their ancestors may have been co-resident at some of the sites in this region during their ancestral migrations.

There are differing points of view regarding the possible presence of Apache people in the Upland Mogollon region during the time that AZ V:4:1(ASM) was occupied. Some Apache traditions describe interactions with Ancestral Pueblo people during this time, but according to these stories, Puebloan people and Apache people were regarded as having separate identities. The White Mountain Apache Tribe of the Fort Apache Reservation, Arizona, does not claim cultural affiliation with the human remains and associated funerary objects from this site. As reported by Welch and Ferguson (2005), consultations between the Navajo Nation, Arizona, New Mexico & Utah; Pueblo of Acoma, New Mexico; Pueblo of Laguna, New Mexico; and White Mountain Apache Tribe of the Fort Apache Reservation, Arizona, have indicated that none of these tribes wish to pursue claims of affiliation with sites on White Mountain Apache Tribal lands. Moreover, the White Mountain Apache Tribe of the Fort Apache Reservation, Arizona, supports the repatriation of human remains and associated funerary objects from this site, and is ready to assist the Hopi Tribe of Arizona and Zuni Tribe of the Zuni Reservation, New Mexico, in their reburial.

Determinations Made by the U.S. Department of the Interior, Bureau of Indian Affairs and Arizona State Museum, University of Arizona

Officials of the U.S. Department of the Interior, Bureau of Indian Affairs and Arizona State Museum, University of Arizona have determined that:

• Pursuant to 25 U.S.C. 3001(3)(B), the 133 cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Hopi Tribe of Arizona and the Zuni Tribe of the Zuni Reservation, New Mexico.

Additional Requestors and Disposition

Lineal descendants or representatives of any Indian Tribe or Native Hawaiian organization not identified in this notice that wish to claim these cultural items should submit a written request with information in support of the claim to Anna Pardo, NAGPRA Coordinator, Bureau of Indian Affairs, 12220 Sunrise Valley Drive, Room 6084, Reston, VA 20191, telephone (703) 390-6343, email Anna.Pardo@bia.gov, by June 6, 2019. After that date, if no additional claimants have come forward, transfer of control of the unassociated funerary objects to the Hopi Tribe of Arizona and the Zuni Tribe of the Zuni Reservation, New Mexico may proceed.

The U.S. Department of the Interior, Bureau of Indian Affairs is responsible for notifying the Hopi Tribe of Arizona; White Mountain Apache Tribe of the Fort Apache Reservation, Arizona; and the Zuni Tribe of the Zuni Reservation, New Mexico that this notice has been published.

Dated: April 16, 2019.
Melanie O'Brien,
Manager, National NAGPRA Program.

[FR Doc. 2019-09309 Filed 5-6-19; 8:45 am]

BILLING CODE 4312-52-P